FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistnat Attorney General for the Antitrust Division of the Department of Justice. Neither agency intends to take any action with respect to these proposed acquisitions during the applicable waiting period.

FOR FURTHER INFORMATION CONTACT: Sandra M. Peay or Chandra L. Kennedy, Contact Representatives, Federal Trade Commission, Premerger Notification Office, Bureau of Competition, Room 303, Washington, DC 20580 (202) 326-3100.

By Direction of the Commission.
Donald S. Clark,
Secretary.

Trans # | Acquiring | Acquired | Entities
TRANSACTIONS GRANTED EARLY TERMINATION—04/15/2002
20020631 | Jerrold M. Jung | Peter M. Holt, a natural person | HC Industries, LLC d/b/a Holt Rental Services, LLC. Holt Company of Ohio. Holt Texas Properties, Inc.
20020633 | Amarin Corporation, plc | Elan Corporation | Elan Corporation.
20020640 | AOL Time Warner, Inc | America Online Latin America, Inc | America Online Latin America, Inc.
20020641 | TCV IV, L.P | Netflix.com, Inc | Netflix.com, Inc.
TRANSACTIONS GRANTED EARLY TERMINATION—04/16/2002
20020580 | Thomson multimedia S.A | Matsushita Electric Industrial Co., Ltd | Panasonic Disc Services Corporation.
TRANSACTIONS GRANTED EARLY TERMINATION—04/17/2002
20020529 | CIENA Corporation | ONI Systems Corp. | ONI Systems Corp.
20020584 | Sappi Limited | Potlatch Corporation | Potlatch Corporation.
20020638 | Welsh, Carson, Anderson & Stowe IX, L.P | Catholic Health Initiatives | St. Joseph HealthCare System.
20020647 | IVAX Corporation | 3M Company | 3M Innovative Properties Company. Riker Laboratories.
TRANSACTIONS GRANTED EARLY TERMINATION—04/19/2002
20020627 | Apollo Investment Fund, L.P | Oak Hill Capital Partners, L.P | Heavenly Valley, Limited Partnership.
20020632 | RWE Aktiengesellschaft | Innogy plc | Innogy plc.
20020643 | Franzia Winery LLC | Diageo PLC | Diageo North America, Inc.
20020648 | Castle Harlan Partners III, L.P | Morton's Restaurant Group, Inc. | Morton's Restaurant Group, Inc.
20020649 | Clayton, Dubilier & Rice Fund VI Limited Partnership | Clayton, Dubilier & Rice Fund V Limited Partnership | SIRVA, Inc.
20020652 | RHJ Industrial Partners, L.P | D&M Holdings, Inc | D&H Holdings, Inc.
20020653 | Marantz Japan, Inc | RHJ Industrial Partners, L.P | Denon, Ltd.
20020654 | Blyth, Inc. | Robert E. Kirkland | CBK Ltd. LLC.
20020661 | Whitney V, L.P | US Bioservices Corporation (NEWCO) | US Bioservices Corporation (NEWCO).
20020662 | Quantum Industrial Holdings Ltd | Kellogg Company | Bake-Line Products, Inc. Keebler Company.
20020664 | Interpath Communications, Inc | USinternetworking, Inc | USinternetworking, Inc.
20020668 | Willis Stein & Partners III, L.P | Roundy's Inc. Voting Trust | Roundy's Inc.
TRANSACTIONS GRANTED EARLY TERMINATION—04/23/2002
20020626 | Abbott Laboratories | Biocompatibles International plc | Biocompatibles Cardiovascular Inc.
20020657 | Alkermes, Inc | H Group Holding, Inc | Reliant Pharmaceuticals, LLC
20020658 | H Group Holding, Inc | Alkermes, Inc | Alkermes, Inc.
TRANSACTIONS GRANTED EARLY TERMINATION—04/24/2002
20020625 | Team Health Holdings, LLC | Spectrum Holding of Delaware, LLC | Spectrum Healthcare Services, Inc.
20020665 | OJSC Svyazinvest | Golden Telecom, Inc. | Golden Telecom, Inc.
TRANSACTIONS GRANTED EARLY TERMINATION—04/26/2002
20020610 | Alice S. White Trust | Press Holding Corporation | Press Holding Corporation.
20020650 | Professor Kurt Jenny | Istechnika Inc | Isotechnika International Inc.

[FR Doc. 02-11569 Filed 5-08-02; 8:45 am]

BILLING CODE 6750-01-M